NATIONAL SCIENCE FOUNDATION

Advisory Committee for Innovation Corps; Notice of Meeting

In accordance with the Federal Advisory Committee Act (Pub., L.92-463, as amended), the National Science Foundation announces the following meeting:

Name: Innovation Corps Advisory Committee, #80463

Dates/Time: March 6, 2013, 9:00 a.m.-4:00 p.m.

Places: Sheraton Pentagon City Hotel, 900 South Orme Street, Arlington, VA 22204

Type of Meeting: Open

Contact Person: Dr. Dedric A. Carter, Senior Advisor for Strategic Initiatives, Office of the Director, Suite 1205, National Science Foundation, 4201 Wilson Boulevard, Arlington, VA 22230 Telephone Number: (703) 292-8002 dacarter@nsf.gov

Purpose of Meeting: To provide advice and recommendations concerning I-Corps.

Agenda: Opening Statements by Dr. Subra Suresh, Director, NSF Review and discussion the current I-Corps projects and future directions.

Reason for Closing: The program being reviewed includes information of a proprietary or confidential nature, including technical information; financial data, such as salaries; and personal information concerning individuals associated with the proposals. These matters are exempt under (4) and (6) of 5 U.S.C. 552b(c), the Government in the Sunshine Act.

Dated: February 7, 2013.
Susanne Bolton,
Committee Management Officer.

[FR Doc. 2013-03163 Filed 2-11-13; 8:45 am]

BILLING CODE 7555-01-P